DEPARTMENT OF COMMERCE

Bureau of Economic Analysis

[Docket Number 130114042-3042-01]

XRIN 0691-XC006

BE-37: Survey of U.S. Airline Operators' Foreign Revenues and Expenses

AGENCY: Bureau of Economic Analysis, Commerce.

ACTION: Notice of reporting requirements.

SUMMARY: By this Notice, the Bureau of Economic Analysis (BEA), Department of Commerce, is informing the public that it is conducting a mandatory survey titled Survey of U.S. Airline Operators' Foreign Revenues and Expenses (BE-37). This mandatory survey is conducted under the authority of the International Investment and Trade in Services Survey Act (22 U.S.C. 3101-3108, as amended).

SUPPLEMENTARY INFORMATION: This Notice constitutes legal notification to all United States persons (defined below) who meet the reporting requirements set forth in this Notice that they must respond to, and comply with, the survey. Reports are due 45 days after the end of each calendar quarter. The BE-37 survey forms and instructions are available on the BEA Web site at www.bea.gov/surveys/iussurv.htm.

Definitions:

(a) Person means any individual, branch, partnership, associated group, association, estate, trust, corporation, or other organization (whether or not organized under the laws of any State), and any government (including a foreign government, the United States Government, a State or local government, and any agency, corporation, financial institution, or other entity or instrumentality thereof, including a government-sponsored agency).

(b) United States person means any person resident in the U.S. or subject to the jurisdiction of the U.S. United States, when used in a geographic sense, means the 50 States, the District of Columbia, the Commonwealth of Puerto Rico, and all territories of the United States.

(c) Foreign person means any person resident outside the United States or subject to the jurisdiction of a country other than the United States.

Who Must Report: Reports are required from each U.S person whose total covered revenues or total covered expenses: (a) Were $500,000 or more during the previous year or (b) are expected to be $500,000 or more during the current year. Entities required to report will be contacted individually by BEA. Entities not contacted by BEA have no reporting responsibilities.

What To Report: The survey is intended to collect information on U.S. airline operators' foreign revenues and expenses.

How To Report: Reports can be filed via BEA's electronic reporting system at www.bea.gov/efile. Additionally, copies of the survey forms and instructions, which contain complete information on reporting procedures and definitions, can be obtained from the BEA Web site given above in the Summary. Inquiries can be made to BEA at (202) 606-5588.

When To Report: Reports are due to BEA 45 days after the end of each calendar quarter.

Paperwork Reduction Act Notice: This data collection has been approved by the Office of Management and Budget (OMB) in accordance with the Paperwork Reduction Act and assigned control number 0608-0011. An agency may not conduct or sponsor, and a person is not required to respond to, a collection of information unless it displays a valid control number assigned by OMB. The estimated average annual public reporting burden for this collection of information is 4 hours per response. Send comments regarding this burden estimate to Director, Bureau of Economic Analysis (BE-1), U.S. Department of Commerce, Washington, DC 20230; and to the Office of Management and Budget, Paperwork Reduction Project 0608-0012, Washington, DC 20503.

J. Steven Landefeld,
Director, Bureau of Economic Analysis.

[FR Doc. 2013-01845 Filed 1-28-13; 8:45 am]

BILLING CODE 3510-06-P